NATIONAL SCIENCE FOUNDATION

Advisory Committee for Integrative Activities; Cancellation of Meeting

AGENCY: National Science Foundation.

ACTION: Notice; cancellation of meeting date.

The National Science Foundation published a notice in the Federal Register September 6, 2024, in FR Doc. 2024-20063 at 89 FR 72901, concerning a meeting of the Advisory Committee for Integrative Activities. The meeting scheduled for Monday, September 30, 2024, at 1 p.m. (ET) is cancelled.

FOR FURTHER INFORMATION CONTACT: Please contact Crystal Robinson crrobins@nsf.gov or 703-292-8687.

Dated: September 26, 2024.
Crystal Robinson,
Committee Management Officer, National Science Foundation.

[FR Doc. 2024-22573 Filed 10-1-24; 8:45 am]

BILLING CODE 7555-01-P